DEPARTMENT OF AGRICULTURE

Forest Service

Revisions of the Land and Resource Management Plan for the Malheur, Umatilla, and Wallowa-Whitman National Forests, Land and Resource Management Plans, Pacific Northwest Region, OR, WA, and ID

AGENCY: Forest Service, USDA.

ACTION: Notice of intent to revise the Land and Resource Management Plans (Forest Plans) for the Malheur, Umatilla, and Wallowa-Whitman National Forests.

SUMMARY: This notice announces the intent of the Malheur, Umatilla, and Wallowa-Whitman National Forests to revise their respective Land and Resource Management Plans (Forest Plans) under the 1982 planning regulations (36 CFR part 219). Initial steps of the revision process will focus on information needs, resource inventory reviews, establishing a public collaboration process, and identifying needed changes.

ADDRESSES: Send written comments concerning this notice to Dave Schmitt, Blue Mountains Forest Plan Revision Team Leader, 1550 Dewey Avenue, P.O. Box 907, Baker City, OR 97814. Send electronic correspondence on the forest plan revision to tpaulsen@fs.fed.us.

FOR FURTHER INFORMATION CONTACT: Tami Paulsen, Public Affairs Specialist, Blue Mountains Forest Plan Revision Team (541) 523-1332.

SUPPLEMENTARY INFORMATION: The Forest Plans for the Malheur, Umatilla, and Wallowa-Whitman National Forests were completed in May, June, and April of 1990 (respectively) and will remain in effect and continue to be implemented until the Plans are revised. This notice addresses initiation of revision. Once the scope of the revision is better understood the Forests will issue a Notice of Intent to prepare an Environmental Impact Statement, which will initiate the Analysis process outlined in the National Environmental Policy Act.

The Forest Service is preparing new planning regulations, which may be issued while the Malheur, Umatilla, and Wallowa-Whitman National Forests Plans are still in the revision process. These new regulations will reflect the latest national direction on land management planning and the Forests may consider completing the Plan Revision under the new planning regulations when they are finalized. It is anticipated the new planning regulations will allow such a change. An additional Notice will be issued if the Forests decide to switch to the new, final planning regulations.

Dated: March 4, 2004.
Linda Goodman,
Regional Forester.

[FR Doc. 04-5454 Filed 3-10-04; 8:45 am]

BILLING CODE 3410-11-M